CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed.

Currently, the Corporation is soliciting comments concerning its proposed renewal of the Peer Reviewer Application (OMB Number 3045-0090), used by the Corporation to recruit external reviewers to assess grant applications. The information will be provided by individuals wishing to serve as peer review participants for the Corporation grant review processes. The completion of this information collection is required to be considered as a potential reviewer for the Corporation.

Copies of the information collection request can be obtained by contacting the office listed in the addresses section of this notice.

DATES: Written comments must be submitted to the individual and office listed in the ADDRESSES section by June 28, 2010.

ADDRESSES: You may submit comments, identified by the title of the information collection activity, by any of the following methods:

(1) By mail sent to: Corporation for National and Community Service, Office of Grant Policy and Operations, Attention: Vielka Garibaldi, Acting Director, Office of Grants Policy and Operations, Room 9303; 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3477, Attention: Vielka Garibaldi, Acting Director, Office of Grants Policy and Operations.

(4) Electronically through http://www.regulations.gov. Individuals who use a telecommunications device for the deaf (TTY-TDD) may call (202) 606-3472 between 8:30 a.m. and 5 p.m. eastern time, Monday through Friday.

FOR FURTHER INFORMATION CONTACT: Vielka Garibaldi, (202) 606-3472, or by e-mail at vgaribaldi@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation provides grants on a competitive basis to support organizations that use service as an strategy for addressing national and community needs. As part of the grant applications review process, the Corporation uses external reviewers to assess the quality of grant proposals submitted to the Corporation. The peer reviewer application is used by individuals that wish to serve as peer reviewers or peer review panel facilitators for the Corporation grant reviews. The information collected will be used by the Corporation to select review participants for each grant competition. The information is collected electronically using eGrants, the Corporation's web-base grant management system.

Current Action

The Corporation seeks to renew the current information collection. Minor revisions are proposed to clarify eGrants instructions and reflect adjustments to the Corporation for National and Community Service eGrants system.

The information collection will otherwise be used in the same manner as the existing application. The Corporation also seeks to continue using the current application until the revised application is approved by OMB. The current application is due to expire on October 31, 2010.

Type of Review: Renewal.

Agency: Corporation for National and Community Service.

Title: Peer Reviewer Application.

OMB Number: 3045-0090.

Agency Number: None.

Affected Public: Individuals who are interested in serving as peer reviewers and peer review panel facilitators for the Corporation.

Total Respondents: 2,500 responses annually.

Frequency: One time to complete.

Average Time per Response: Averages 40 minutes.

Estimated Total Burden Hours: 1,666 hours.

Total Burden Cost (capital/startup): None.

Total Burden Cost (operating/maintenance): None.

Comments submitted in response to this notice will be summarized and/or included in the request for Office of Management and Budget approval of the information collection request; they will also become a matter of public record.

Dated: April 21, 2010.
Vielka Garibaldi,
Office of Grants Policy and Operations.

[FR Doc. 2010-9867 Filed 4-27-10; 8:45 am]

BILLING CODE 6050-$$-P